DEPARTMENT OF DEFENSE

Department of the Army; Corps of Engineers

Public Scoping Meeting for Va Shly'ay Akimel Salt River Restoration Project, Maricopa County, Arizona (Revised Date)

AGENCY: U.S. Army Corps of Engineers, DoD.

ACTION: Notice of meeting.

SUMMARY: The Los Angeles District intends to prepare an Environmental Impact Statement (EIS) to support the proposed study for the Salt River Pima-Maricopa Indian Community and the City of Mesa. A notice of “Intent to Prepare a Draft Environmental Impact Statement for Va Shly'ay Akimel Salt River Restoration Project, Maricopa County, Arizona” was previously published in the Federal Register (66 FR 55644, November 2, 2001). In that notice the Corps indicated that a public scoping meeting would be held some time in November 2001. Because of logistical considerations, the meeting was not held at that time. This notice provides information on the rescheduled meeting.

ADDRESSES: Commander, U.S. Army Corps of Engineers, Attn: Stephen Dibble, CESPL-PD-RN, Los Angeles District, Ecosystem Planning Section, P.O. Box 532711, Los Angeles, CA 90053-2325.

DATES: January 24, 2002, 6:00 PM, Scottsdale, AZ 85256.

FOR FURTHER INFORMATION CONTACT: Mr. Stephen Dibble, Environmental Manager, at (213) 452-3849. He can also be reached by e-mail at ddibble@spl.usace.army.mil.

SUPPLEMENTARY INFORMATION: 1. Scoping Process: The Corps will conduct a scoping meeting prior to preparing the Environmental Impact Statement to aid in determining the significant environmental issues associated with the proposed action. The public, as well as Federal, State, and local agencies are encouraged to participate in the scoping process by submitting data, information, and comments identifying relevant environmental and socioeconomic issues to be addressed in the environmental analysis. Useful information includes other environmental studies, published and unpublished data, alternatives that should be addressed in the analysis, and potential mitigation measures associated with the proposed action.

A public scoping meeting will be held in conjunction with the local sponsor to discuss the project scope and invite public participation in developing alternatives for the project. Individuals and agencies may offer information or data relevant to the environmental or socioeconomic impacts by attending the public scoping meeting, or by mailing the information to the above address.

2. Public Scoping Meeting: A public scoping meeting will be held on January 24, 2002 at 6:00 PM.

Location: Salt River Pima Maricopa Indian Community, Multi-purpose Building, 1880 N Longmore, Scottsdale, AZ 85256.

Luz D. Ortiz,
Army Federal Register Liaison Officer.

[FR Doc. 02-1149 Filed 1-15-02; 8:45 am]

BILLING CODE 3710-KF-M